DEPARTMENT OF COMMERCE

National Oceanic and Atmospheric Administration

50 CFR Part 679

[Docket No. 240227-0061; RTID 0648-XD436]

Fisheries of the Exclusive Economic Zone Off Alaska; Gulf of Alaska; Final 2024 and 2025 Harvest Specifications for Groundfish

In rule document 2024-04516 beginning on page 15484 in the issue of Monday, March 4, 2024, make the following correction:

On page 15489, in Table 1 the three final entries should read:

Sharks | 4,891 | 4,891 | 0 | 0% | 4,891 | 0 | 0%
Octopuses | 980 | 980 | 0 | 0% | 980 | 0 | 0%
Total | 476,537 | 520,020 | 43,483 | 9.1% | 483,700 | 7,163 | 1.5%

[FR Doc. C1-2024-04516 Filed 3-14-24; 8:45 am]

BILLING CODE 1505-01-D